DEPARTMENT OF TRANSPORTATION

Federal Aviation Administration

14 CFR Part 39

[Docket No. 2003-NM-205-AD; Amendment 39-13474; AD 2004-03-30]

RIN 2120-AA64

Airworthiness Directives; Boeing Model 727, 727C, 727-100, and 727-100C Series Airplanes

AGENCY: Federal Aviation Administration, DOT.

ACTION: Final rule.

SUMMARY: This amendment adopts a new airworthiness directive (AD), applicable to all Boeing Model 727, 727C, 727-100, and 727-100C series airplanes, that requires repetitive detailed and special detailed inspections for cracks in the web, inner chord, and outer chord of the forward and aft frames of the aft cargo door opening; and repair of any crack found. This action is necessary to detect and correct such cracks, which could result in loss of the aft cargo door and rapid decompression of the airplane. This action is intended to address the identified unsafe condition.

DATES: Effective March 24, 2004.

The incorporation by reference of certain publications listed in the regulations is approved by the Director of the Federal Register as of March 24, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION: A proposal to amend part 39 of the Federal Aviation Regulations (14 CFR part 39) to include an airworthiness directive (AD) that is applicable to all Boeing Model 727, 727C, 727-100, and 727-100C series airplanes was published in the Federal Register on November 18, 2003 (68 FR 64994). That action proposed to require repetitive detailed and special detailed inspections for cracks in the web, inner chord, and outer chord of the forward and aft frames of the aft cargo door opening; and repair of any crack found.

Comments

Interested persons have been afforded an opportunity to participate in the making of this amendment. No comments were submitted in response to the proposal or the FAA's determination of the cost to the public.

Explanation of Change to This Final Rule

The FAA has determined that the option to alternatively allow Boeing Company Designated Engineering Representatives to approve alternative methods of compliance for the actions specified in paragraph (a) of the proposed AD was inadvertently omitted from paragraph (b) of the proposed AD. Therefore, we have revised paragraph (b) of this final rule to include that provision.

Conclusion

After careful review of the available data, the FAA has determined that air safety and the public interest require the adoption of the rule with the change previously described. The FAA has determined that this change will neither increase the economic burden on any operator nor increase the scope of the AD.

Interim Action

We consider this AD to be interim action. The manufacturer is currently developing a modification that will address the unsafe condition identified in this AD. Once this modification is developed, approved, and available, we may consider additional rulemaking.

Cost Impact

There are approximately 193 airplanes of the affected design in the worldwide fleet. We estimate that 129 airplanes of U.S. registry will be affected by this AD. We provide the following cost estimates for the required inspections, per inspection cycle:

Table—Costs
Airplanes | Work hours | Hourly labor rate | Parts | Cost per airplane
Group 1 airplanes not modified per Boeing Service Bulletin 727-53-0045 | 2 | $65 | $0 | $130
Group 1 airplanes modified per Boeing Service Bulletin 727-53-0045 | 3 | 65 | 0 | 195
Group 2 airplanes | 3 | 65 | 0 | 195

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-30 Boeing: Amendment 39-13474. Docket 2003-NM-205-AD.

Applicability: Model 727, 727C, 727-100, and 727-100C series airplanes, certificated in any category, as listed in Boeing Alert Service Bulletin 727-53A0225, dated September 11, 2003.

Compliance: Required as indicated, unless accomplished previously.

To detect and correct fatigue cracks in the web, inner chord, and outer chord of the forward and aft frames of the aft cargo door opening, which could result in loss of the aft cargo door and rapid decompression of the airplane, accomplish the following:

Inspections and Corrective Action

(a) Perform a detailed inspection and a special detailed (high frequency eddy current) inspection for cracks in the web, inner chord, and outer chord of the forward and aft frames of the aft cargo door opening. Do the inspections at the applicable initial compliance time listed in paragraph 1.E., “Compliance,” of Boeing Alert Service Bulletin 727-53A0225, dated September 11, 2003; except, where the service bulletin specifies a compliance time after the effective date of the service bulletin date, this AD requires compliance within the specified compliance time after the effective date of this AD. Do the inspection in accordance with the Accomplishment Instructions of the service bulletin.

(1) If no crack is found: Repeat the inspection within the interval listed in paragraph 1.E., “Compliance,” of the service bulletin.

(2) If any crack is found: Repair it before further flight in accordance with a method approved by the Manager, Seattle Aircraft Certification Office (ACO), FAA; or per data meeting the type certification basis of the airplane approved by a Boeing Company Designated Engineering Representative (DER) who has been authorized by the Manager, Seattle ACO, to make such findings. For a repair method to be approved, the approval must specifically refer to this AD. Within 12 months following a repair, implement an inspection program for the repair into the 727 maintenance program in accordance with a method and compliance times approved by the Manager, Seattle ACO; or per data meeting 14 CFR 25.571 (Amendment 25-54 or later) approved by a Boeing Company DER who has been authorized by the Manager, Seattle ACO, to make such findings.

Alternative Methods of Compliance

(b)(1) In accordance with 14 CFR 39.19, the Manager, Seattle ACO, is authorized to approve alternative methods of compliance (AMOCs) for this AD.

(2) An AMOC that provides an acceptable level of safety may be used for the requirements of paragraph (a) of this AD, if it is approved by a Boeing Company DER who has been authorized by the Manager, Seattle Aircraft Certification Office, to make such findings.

Incorporation by Reference

(c) Unless otherwise specified by this AD, the actions must be done in accordance with Boeing Alert Service Bulletin 727-53A0225, dated September 11, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(d) This amendment becomes effective on March 24, 2004.

Issued in Renton, Washington, on February 5, 2004.
Kevin M. Mullin,
Acting Manager, Transport Airplane Directorate, Aircraft Certification Service.

[FR Doc. 04-3131 Filed 2-17-04; 8:45 am]

BILLING CODE 4910-13-U